DEPARTMENT OF ENERGY

Federal Energy Regulatory Commission

[Docket No. RP00-409-000]

Natural Gas Pipeline Company of America; Notice of Technical Conference

June 7, 2001.

On July 17, 2000, Natural Gas Pipeline Company of America (Natural) submitted its filing to comply with Order No. 637. Several parties have protested various aspects of Natural's filing.

Take notice that a technical conference to discuss the various issues raised by Natural's filing will commence on Tuesday, July 10, 2001, at 10:00 a.m.

The technical conference will be held in a room to be designated at the offices of the Federal Energy Regulatory Commission, 888 First Street, NE., Washington, DC 20426. Parties protesting aspects of Natural's filing should be prepared to discuss alternatives.

All interested parties and Staff are permitted to attend.

David P. Boergers,
Secretary.

[FR Doc. 01-14850 Filed 6-12-01; 8:45 am]

BILLING CODE 6717-01-M